FEDERAL MARITIME COMMISSION

Ocean Transportation Intermediary License Rescission of Order of Revocation

The Commission gives notice that the Order revoking the following Ocean Transportation Intermediary license has been rescinded pursuant to section 19 of the Shipping Act of 1984 (46 U.S.C. 40101).

License Number: 021687N.

Name: Confianca Moving, Inc. dba CWM Logistics.

Address: 1458 240th Street, Harbor City, CA 90710.

Order Published: April 22, 2014 (79 FR 22494 DOC No. 2014-09098).

Sandra L. Kusumoto,
Director, Bureau of Certification and Licensing.

[FR Doc. 2014-11130 Filed 5-14-14; 8:45 am]

BILLING CODE 6730-01-P